DEPARTMENT OF ENERGY

Federal Energy Regulatory Commission

[Docket No. CP16-13-000]

Equitrans, L.P.; Notice of Request for Extension of Time

Take notice that on July 10, 2020, Equitrans L.P. (Equitrans) requested that the Federal Energy Regulatory Commission (Commission) grant an extension of time, until December 1, 2020, to complete the abandonment of the Pratt Compressor Station facilities located in Greene County, Pennsylvania. The Pratt Compressor Station is being replaced by the Redhook Compressor Station as part of the Equitrans Expansion Project as authorized by the Commission's October 13, 2017 Order Issuing Certificates and Granting Abandonment Authority (Certificate Order).¹ Equitrans is required to abandon the Pratt Compressor Station facilities within one year of placing the Redhook Compressor Station into service.²

¹ Mountain Valley Pipeline, LLC, 161 FERC 61,043 (2017).

² Equitrans, L.P., 162 FERC 61,191, at P 5 (2018).

On July 31, 2019, Equitrans placed the Redhook Compressor Station into service, establishing July 31, 2020 as the abandonment deadline for the Pratt Compressor Station facilities.

On March 5, 2020, Commission staff granted Equitrans' request to proceed with abandonment activities at the Pratt Compressor Station, as well as its request for a variance to abandon-in-place several existing facilities that were approved for removal at the Pratt Compressor Station.³ Specifically, the variance permitted Equitrans to abandon-in-place the H-117 pipeline receiver; the D-497 pipeline pig launcher and associated appurtenances; five buildings, including storage buildings, an office building, an electronics building, and the main water service building; a garage; and the foundation floor of the building housing the old Pratt compressor units.

³ Equitrans, L.P., Docket No. CP16-13-000 (unreported) (Letter Order under Delegated Authority) (2020) (Accession No. 20200305-3024).

Equitrans asserts that it has experienced delays as a result of extra safety precautions taken due to the age of the building and equipment, safeguards taken with removal of the compressor building to ensure safety in direct vicinity of remaining equipment at the station, and inefficiencies resulting from newly developed processes related to the COVID-19 pandemic. To date, the following facilities remain to be removed from the site: (a) 2,200 linear feet of piping; (b) six vessels; (c) five coolers; (d) compressor building basement; and (e) five compressors. Accordingly, Equitrans requests an extension of time until December 1, 2020, to complete abandonment of the Pratt Compressor Station facilities.

This notice establishes a 15-calendar day intervention and comment period deadline. Any person wishing to comment on Equitrans' request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁴

⁴ Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,⁵ the Commission will aim to issue an order acting on the request within 45 days.⁶ The Commission will address all arguments relating to whether the applicant has demonstrated there is good cause to grant the extension.⁷ At the time a pipeline requests an extension of time, orders on certificates of public convenience and necessity are final and the Commission will not re-litigate their issuance.⁸ The OEP Director, or his or her designee, will act on all of those extension requests that are uncontested.

⁵ Contested proceedings are those where an intervenor disputes any material issue of the filing. 18 CFR 385.2201(c)(1) (2019).

⁶ Algonquin Gas Transmission, LLC, 170 FERC 61,144, at P 40 (2020).

⁷ Id. at P 40.

⁸ Algonquin Gas Transmission, LLC, 170 FERC 61,144, at P 40 (2020).

In addition to publishing the full text of this document in the Federal Register, the Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the eFile link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on July 30, 2020.

Dated: July 15, 2020.
Kimberly D. Bose,
Secretary.

[FR Doc. 2020-15738 Filed 7-20-20; 8:45 am]

BILLING CODE 6717-01-P